DEPARTMENT OF STATE

Bureau of Consular Affairs

22 CFR Part 42

[Public Notice 3555]

Visas: Documentation of Immigrants—International Broadcasters

AGENCY: Bureau of Consular Affairs, DOS.

ACTION: Interim rule with request for comments.

SUMMARY: This rule incorporates into existing regulation a new special immigrant visa classification for certain international broadcasting employees of the International Broadcasting Bureau of the Broadcasting Board of Governors or grantees of that Board. This addition to the regulation results from an amendment to the pertinent legislation. The change will permit certain broadcasting employees to receive immigrant visas and apply for entry into the United States as immigrants.

DATES: Effective date: This interim rule is effective on April 18, 2001.

Comment date: Written comments must be submitted on or before May 18, 2001.

ADDRESSES: Submit comments in duplicate to the Chief, Legislation and Regulations Division, Visa Services, Department of State, 20520-0106, (202) 663-1204, e-mail odomhe@state.gov, or fax at (202) 663-3898.

FOR FURTHER INFORMATION CONTACT: H. Edward Odom, Chief, Legislation and Regulations Division, Visa Services, Department of State, Washington, DC 20520-0106.

SUPPLEMENTARY INFORMATION:

What Is the Authority for This Rule?

Pub. L. 106-536 created a new class of special immigrants under INA 203(b)(4) for international broadcasting employees. Such aliens must be seeking to enter the United States to work as a broadcaster for the International Broadcasting Bureau of the Broadcasting Board of Governors, or for a grantee of the Broadcasting Board of Governors. The alien's accompanying spouse and child(ren) are entitled to derivative status. The law limits the number of immigrants in this category to 100 annually, excluding spouses and children for whom there is no numerical limitation.

Interim Rule

How Is the Department Amending its Regulation?

The Department is amending its regulation at 22 CFR 42.32 by adding a new paragraph (d)(8).

What Effect Will This Rule Have on Current Regulations?

This rule authorizes consular officers to accord fourth preference employment-based special immigrant classification to certain international broadcasters. As with other classes of fourth preference employment-based immigrants, the alien must be the beneficiary of an approved petition.

Administrative Procedure Act

The Department's implementation of this regulation as an interim rule is based upon the “good cause” exceptions found at 5 U.S.C. 553(b)(B) and (d)(3). As the amendment to the regulation simply implements without interpretation a legislative mandate that provides a benefit to aliens by extending special immigrant status to a specific class of aliens, the Department has determined that it is unnecessary to publish a proposed rule or to solicit comments from the public. In view of this benefit and since the amendment applies to visas made available in any fiscal year beginning on or after October 1, 2000, the rule will be made effective immediately upon publication in the Federal Register.

Regulatory Flexibility Act

The Department of State, in accordance with the Regulatory Flexibility Act (5 U.S.C. 605(b)), has reviewed this regulation and, by approving it, certifies that this rule will not have a significant economic impact on a substantial number of small entities.

Unfunded Mandates Reform Act of 1995

This rule will not result in the expenditure by state, local and tribal governments, in the aggregate, or by the private sector, of $100 million or more in any year and it will not significantly or uniquely affect small governments. Therefore, no actions were deemed necessary under the provisions of the Unfunded Mandates Reform Act of 1995.

Small Business Regulatory Enforcement Fairness Act of 1996

This rule is not a major rule as defined by section 804 of the Small Business Regulatory Enforcement Act of 1996. This rule will not result in an annual effect on the economy of $100 million or more; a major increase in costs or prices; or significant adverse effects on competition, employment, investment, productivity, innovation, or on the ability of United States-based companies to compete with foreign-based companies in domestic and export markets.

Executive Order 12866

The Department of State does not consider this rule, to be a “significant regulatory action” under Executive Order 12866, section 3(f), Regulatory Planning and Review, and the Office of Management and Budget has waived its review process under section 6(a)(3)(A).

Executive Order 13132

This regulation will not have substantial direct effects on the states, on the relationship between the national government and the states, or on the distribution of power and responsibilities among the various levels of government. Therefore, in accordance with section 6 of Executive Order 13132, it is determined that this rule does not have sufficient federalism implications to warrant the preparation of a federalism summary impact statement.

Paperwork Reduction Act

This rule does not impose any new reporting or record-keeping requirements.

List of Subjects in 22 CFR Part 42

Aliens, Immigrants, Passports and Visas.

PART 42—[AMENDED]

1. The authority citation for Part 42 shall continue to read:

Authority: 8 U.S.C. 1104.

2. Amend § 42.32 by adding a new paragraph (d)(8) to read as follows:

§ 42.32 [Amended]

* * * * *

(d) * * *

(8) Certain United States international broadcasting employees.

(i) Entitlement to status. An alien is classifiable as a special immigrant under INA 203(b)(4) as described in INA 101(a)(27)(M), if the consular office has received a petition approved by the INS to accord such classification, or official notification of such an approval, and the consular officer is satisfied from the evidence presented that the alien is within the class described in INA 101(a)(27)(M).

(ii) Entitlement to derivative status. Pursuant to INA 203(d), and whether or not named in the petition, the spouse or child of any alien classified under INA 203(b)(4) as a special immigrant qualified under this section, if not otherwise entitled to an immigrant status and the immediate issuance of a visa, is entitled to derivative status corresponding to the classification and priority date of the beneficiary of the petition.

* * * * *

Dated: December 22, 2000.
Maura Harty,
Acting Assistant Secretary for Consular Affairs, U.S. Department of State.

[FR Doc. 01-6477 Filed 3-16-01; 8:45 am]

BILLING CODE 4710-06-P